COMMISSION ON CIVIL RIGHTS

Agenda and Notice of Public Meeting of the Arkansas Advisory Committee

Notice is hereby given, pursuant to the provisions of the rules and regulations of the U.S. Commission on Civil Rights (Commission), and the Federal Advisory Committee Act (FACA), that a factfinding meeting of the Arkansas Advisory Committee to the Commission will convene on Wednesday, September 12, 2012 thru Thursday, September 13, 2012 and adjourn each day at approximately 5:00 p.m. (CST). The meeting will convene at University of Little Rock William H. Bowen School of Law Auditorium, 1201 McMath Avenue, Little Rock, AR 72202. The purpose of the meeting is to receive information from local, state and federal officials, community leaders and experts on whether or not there is a need for a state civil rights enforcement agency.

Members of the public are entitled to submit written comments. The comments must be received in the regional office by October 12, 2012. The address is U.S. Commission on Civil Rights, 400 State Avenue, Suite 908, Kansas City, Kansas 66101. Persons wishing to email their comments, or to present their comments verbally at the meeting, or who desire additional information should contact Farella E. Robinson, Regional Director, Central Regional Office, at (913) 551-1400, (or for hearing impaired TDD 913-551-1414), or by email to frobinson@usccr.gov.

Hearing-impaired persons who will attend the meeting and require the services of a sign language interpreter should contact the Regional Office at least ten (10) working days before the scheduled date of the meeting.

Records generated from this meeting may be inspected and reproduced at the Central Regional Office, as they become available, both before and after the meeting. Persons interested in the work of this advisory committee are advised to go to the Commission's Web site, www.usccr.gov, or to contact the Central Regional Office at the above email or street address.

The meeting will be conducted pursuant to the provisions of the rules and regulations of the Commission and FACA.

Dated in Washington, DC, July 9, 2012.
Peter Minarik,
Acting Chief, Regional Programs Coordination Unit.

[FR Doc. 2012-17015 Filed 7-11-12; 8:45 am]

BILLING CODE 6335-01-P